DEPARTMENT OF COMMERCE

Foreign-Trade Zones Board

[B-36-2022]

Proposed Foreign-Trade Zone—Western North Carolina Under Alternative Site Framework

An application has been submitted to the Foreign-Trade Zones (FTZ) Board by the Land of Sky Regional Council to establish a foreign-trade zone in the western North Carolina area, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on August 17, 2022. The applicant is authorized to make the proposal under Chapter 55C of the North Carolina State Enabling Legislation. The proposed zone would be the first zone in North Carolina for the Greenville-Spartanburg, South Carolina Customs and Border Protection (CBP) port of entry.

The applicant's proposed service area under the ASF would be all of Henderson County, North Carolina as well as portions of Buncombe, Haywood, Jackson and Transylvania Counties, North Carolina, as described in the application. If approved, the applicant would be able to serve sites throughout the service area based on companies' needs for FTZ designation. The application indicates that the proposed service area is adjacent to the Greenville-Spartanburg CBP port of entry.

Initially, the proposed zone would include one “usage-driven” site located in Buncombe County: Proposed Site 1 (1.97 acres)—Moog Music Inc., 160 Broadway Street, Asheville.

The application indicates a need for zone services in western North Carolina. Several firms have indicated an interest in using zone procedures for warehousing/distribution activities for a variety of products. Specific production approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is October 24, 2022. Rebuttal comments in response to material submitted during the foregoing period may be submitted during the subsequent 15-day period to November 7, 2022.

A copy of the application will be available for public inspection in the “Online FTZ Information Section” section of the FTZ Board's website, which is accessible via www.trade.gov/ftz.

For further information, contact Christopher Kemp at Christopher.Kemp@trade.gov.

Dated: August 18, 2022.
Andrew McGilvray,
Executive Secretary.

[FR Doc. 2022-18138 Filed 8-22-22; 8:45 am]

BILLING CODE 3510-DS-P